DEPARTMENT OF HEALTH AND HUMAN SERVICES

Food and Drug Administration

21 CFR Part 73

[Docket No. FDA-2018-C-0617]

Listing of Color Additives Exempt From Certification; Silver Nitrate; Confirmation of Effective Date

AGENCY: Food and Drug Administration, HHS.

ACTION: Final rule; confirmation of effective date.

SUMMARY: The Food and Drug Administration (FDA or we) is confirming the effective date of November 8, 2021, for the final rule that appeared in the Federal Register of October 6, 2021, and that amended the color additive regulations to provide for the safe use of silver nitrate as a color additive in professional-use only cosmetics to color eyebrows and eyelashes.

DATES: Effective date of final rule published in the Federal Register of October 6, 2021 (86 FR 55494) confirmed: November 8, 2021.

ADDRESSES: For access to the docket to read background documents or comments received, go to https://www.regulations.gov and insert the docket number found in brackets in the heading of this final rule into the “Search” box and follow the prompts, and/or go to the Dockets Management Staff, 5630 Fishers Lane, Rm. 1061, Rockville, MD 20852.

FOR FURTHER INFORMATION CONTACT: Rachel Morissette, Center for Food Safety and Applied Nutrition, Food and Drug Administration, 5001 Campus Dr., College Park, MD 20740, 240-402-1212.

SUPPLEMENTARY INFORMATION: In the Federal Register of October 6, 2021 (86 FR 55494), we amended the color additive regulations in § 73.2550 (21 CFR 73.2550), “Silver nitrate,” to provide for the safe use of silver nitrate as a color additive in professional-use only cosmetics to color eyebrows and eyelashes.

We gave interested persons until November 5, 2021, to file objections or requests for a hearing. We received no objections or requests for a hearing on the final rule. Therefore, we find that the effective date of the final rule that published in the Federal Register of October 6, 2021, should be confirmed.

List of Subjects in 21 CFR Part 73

Color additives, Cosmetics, Drugs, Foods, Medical devices.

Therefore, under the Federal Food, Drug, and Cosmetic Act (21 U.S.C. 321, 341, 342, 343, 348, 351, 352, 355, 361, 362, 371, 379e) and under authority delegated to the Commissioner of Food and Drugs, we are giving notice that no objections or requests for a hearing were filed in response to the October 6, 2021, final rule. Accordingly, the amendments issued thereby became effective November 8, 2021.

Dated: December 21, 2021.
Lauren K. Roth,
Associate Commissioner for Policy.

[FR Doc. 2021-28158 Filed 12-28-21; 8:45 am]

BILLING CODE 4164-01-P